DEPARTMENT OF COMMERCE

National Oceanic and Atmospheric Administration

50 CFR Part 660

[Docket No. 140909772-4772-01]

RIN 0648-BE52

Fisheries Off West Coast States; Control Date for Large-Mesh Drift Gillnet Limited Entry Program

AGENCY: National Marine Fisheries Service (NMFS), National Oceanic and Atmospheric Administration (NOAA), Commerce.

ACTION: Advance notice of proposed rulemaking (ANPR); request for comments.

SUMMARY: This ANPR announces a control date of June 23, 2014, that may be used as a reference for allocation decisions when considering potential future management actions to limit the number of participants in the large-mesh drift gillnet (DGN) fishery that targets swordfish and thresher sharks. The Pacific Fishery Management Council (Council) selected the June 23, 2014, control date based on discussions at its June meeting. The Council requested this ANPR to discourage speculative fishing effort as they review the current state-managed DGN limited entry program and consider establishing a federally-managed limited entry program for this fishery. This ANPR is intended to promote public awareness of the Council's interest and the potential for a future rulemaking.

DATES: June 23, 2014, shall be known as the control date for the large-mesh DGN fishery and may be used as a reference for allocations in a future management program that is consistent with the Council's objectives and applicable federal laws. Comments must be submitted in writing by November 28, 2014.

ADDRESSES: You may submit comments, identified by NOAA-NMFS-2014-0119, by any of the following methods:

• Electronic Submission: Submit all electronic public comments via the Federal e-Rulemaking Portal. Go to www.regulations.gov/#!docketDetail;D=NOAA-NMFS-2014-0119, click the “Comment Now!” icon, complete the required fields, and enter or attach your comments.

• Mail: Submit written comments to Mark Helvey, NMFS West Coast Region, 501 W. Ocean Blvd., Ste. 4200, Long Beach, CA 90802. Attn: DGN Control Date.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Mark Helvey: (562) 980-4040, or mark.helvey@noaa.gov.

SUPPLEMENTARY INFORMATION: The DGN fishery targets swordfish and thresher shark and was managed by the State of California until 2004 when NMFS implemented the Fishery Management Plan for U.S. West Coast Fisheries for Highly Migratory Species (HMS FMP). The Council's adoption of the HMS FMP resulted in incorporation of all pre-existing state and Federal regulations at 50 CFR 660, subpart K, except for those pertaining to the state of California's DGN limited entry program. The 2004 HMS FMP also established a control date of March 9, 2000, for all HMS fisheries in case a limited entry program was needed in the future. Control dates are used to establish a date after which those who enter a fishery may not be guaranteed access to that fishery if access be limited by regulation. Because of the changes occurring in the fishery since 2004, the Council decided to establish a more recent date for the DGN fishery.

At its March and June 2014 meetings, the Council discussed issuing a more recent control date specific to the DGN fishery in the event that it decides to recommend a Federal limited entry permit. The discussions included a report on the current status of DGN permits. The total number of permits issued by the state of California in 2013 was 77; however, only about 25 of those actively fished with DGN gear since 2010. The remaining inactive or latent permits represent available, but unused, fishing opportunity. If the inactive or latent permits were to become active, this could increase fishing and pose greater risks to protected species.

This notification establishes June 23, 2014, as the new control date for potential use in determining historical or traditional participation in the large-mesh DGN fishery. The Council requested that NMFS publish this control date to discourage speculative fishing effort in the DGN fishery while alternative management regimes to control effort are discussed, possibly developed, and implemented. Interested participants should locate and preserve records that substantiate and verify their participation in the large-mesh DGN fishery.

This notification and control date do not impose any legal obligations, requirements, or expectations. Consideration of a control date does not commit the Council or NMFS to develop any particular management regime or criteria for participation in this fishery. In the future, the Council may choose a different control date; or may choose a management program that does not make use of a control date. The Council may also choose to not take further action to control entry or access to the large-mesh DGN fishery under the Magnuson-Stevens Fishery Conservation and Management Act (MSA). Action by the Council may be adopted in a future amendment to the HMS FMP, which would include opportunity for further public participation and comment. Any future action by NMFS regarding the DGN fishery will be taken pursuant to the MSA.

Authority: 16 U.S.C. 1801 et seq.

Dated: October 22, 2014.
Samuel D. Rauch III,
Deputy Assistant Administrator for Regulatory Programs, National Marine Fisheries Service.

[FR Doc. 2014-25527 Filed 10-27-14; 8:45 am]

BILLING CODE 3510-22-P